DEPARTMENT OF THE TREASURY

Internal Revenue Service

Advisory Group to the Internal Revenue Service Tax Exempt and Government Entities Division (TE/GE); Meeting

AGENCY: Internal Revenue Service (IRS), Treasury.

ACTION: Notice.

SUMMARY: The Advisory Committee on Tax Exempt and Government Entities (ACT) will hold a public meeting on Wednesday, June 6, 2012.

FOR FURTHER INFORMATION CONTACT: Roberta B. Zarin, Director, TE/GE Communications and Liaison; 1111 Constitution Ave. NW.; SE:T:CL—NCA-679; Washington, DC 20224. Telephone: 202-283-8868 (not a toll-free number). Email address: Roberta.B.Zarin@irs.gov.

SUPPLEMENTARY INFORMATION: By notice herein given, pursuant to section 10(a)(2) of the Federal Advisory Committee Act, 5 U.S.C. App. (1988), a public meeting of the ACT will be held on Wednesday, June 6, 2012, from 9:30 a.m. to 11:30 a.m., at the Internal Revenue Service; 1111 Constitution Ave. NW.; Room 3313; Washington, DC. Issues to be discussed relate to Employee Plans, Exempt Organizations, and Government Entities.

Reports from five ACT subgroups cover the following topics:

Employee Plans:

—Analysis and Recommendations Regarding the Scope of the Employee Plans Examination Process

Exempt Organizations:

—Form 1023—Updating it for the Future

Federal, State and Local Governments:

—TIN Matching as an Effective Online Business Tool to Improve Compliance

Indian Tribal Governments:

—Report on the General Welfare Doctrine as Applied to Indian Tribal Governments and Their Members

Tax Exempt Bonds:

—A Survey of IRS Forms for Information Reporting

Last minute agenda changes may preclude advance notice. Due to limited seating and security requirements, attendees must call Cynthia PhillipsGrady to confirm their attendance. Ms. PhillipsGrady can be reached at (202) 283-9954.

Attendees are encouraged to arrive at least 30 minutes before the meeting begins to allow sufficient time for security clearance. Photo identification must be presented. Please use the main entrance at 1111 Constitution Ave. NW., to enter the building.

Should you wish the ACT to consider a written statement, please call (202) 283-8868, or write to: Internal Revenue Service; 1111 Constitution Ave. NW.; SE:T:CL—NCA-679; Washington, DC 20224, or email Roberta.B.Zarin@irs.gov.

Dated: May 11, 2012.
Roberta B. Zarin,
Designated Federal Official, Tax Exempt and Government Entities Division.

[FR Doc. 2012-12160 Filed 5-17-12; 8:45 am]

BILLING CODE 4830-01-P